DEPARTMENT OF TRANSPORTATION

Maritime Administration

[Docket MARAD-2005-22416]

Lykes Lines Limited, LLC; Request For Comments Regarding the Proposed Purchase of CP Ships Limited by TUI AG and Its Impact on the Maritime Security Program (MSP)

By letter dated August 22, 2005, CP Ships USA, LLC (CP USA), successor in interest to Lykes Lines Limited, LLC (Lykes), has advised the Maritime Administration (MARAD) that TUI AG (TUI) is acquiring CP Ships Limited (CP Ships), the parent company of CP USA, through a stock purchase. Lykes has been awarded five new MSP Operating Agreements, Nos. MA/MSP-74 through 78, respectively, to the vessels CP NAVIGATOR (ex-LYKES NAVIGATOR), CP DISCOVERER (ex-LYKES DISCOVERER), CP LIBERATOR (ex-LYKES LIBERATOR), CP MOTIVATOR (ex-LYKES MOTIVATOR) and CP YOSEMITE (ex-TMM YUCATAN) for the participation of those vessels in the MSP beginning October 1, 2005. CP USA became the successor to Lykes on May 30, 2005, through reorganization and renaming of various components of Canadian Pacific Lines, Limited, which itself was renamed CP Ships.

TUI is a German corporation and parent of the German vessel operator Hapag-Lloyd AG. Neither TUI, nor Hapag-Lloyd presently has any connection to the MSP. Implementation of the proposed purchase will bring the ultimate control of CP USA's five MSP Fleet vessels under the ownership of TUI.

The purchase of CP Ships by TUI will, in effect, transfer ultimate ownership of CP USA from one foreign corporate entity to another. The transaction requires MARAD approval under CP USA's MSP Operating Agreements Nos. MA/MSP-74 through 78. This notice is being published as a matter of discretion. MARAD will consider all comments submitted in a timely fashion on this particular application, and the topic of the transfer of MSP Operating Agreements in general, and will take such action thereto as may be deemed appropriate.

A redacted copy of this proposal will be available for inspection at the Department of Transportation (DOT) Dockets Facility and on the DOT Dockets Web site (address information follows). Any person, firm or corporation having an interest in this proposal, and desiring to submit comments concerning the transaction, may file comments as follows. You should mention the docket number that appears at the top of this notice in any submission. Written comments should be submitted to the Docket Clerk, U.S. DOT Dockets, Room PL-401, Nassif Building, U.S. Department of Transportation, 400 Seventh Street, SW., Washington, DC 20590. Comments may also be submitted by electronic means via the Internet at http://dmses.dot.gov/submit/. You may call Docket Management at (202) 366-9324. You may visit the docket room to inspect and copy comments at the above listed address between 10 a.m. and 5 p.m. EDT, Monday through Friday, except holidays. An electronic version of this document is available on the World Wide Web at http://dms.dot.gov. Comments must be received by close of business September 23, 2005.

This notice is published as a matter of discretion, and the fact of its publication should in no way be considered a favorable or unfavorable decision on the proposed transaction, as filed, or as it may be amended.

Dated: September 7, 2005.
By Order of the Maritime Administration.
Joel C. Richard,
Secretary, Maritime Administration.

[FR Doc. 05-18150 Filed 9-12-05; 8:45 am]

BILLING CODE 4910-81-P